NUCLEAR REGULATORY COMMISSION

10 CFR Part 35

[NRC-2022-0218]

RIN 3150-AK91

Reporting Nuclear Medicine Injection Extravasations as Medical Events; Correction

AGENCY: Nuclear Regulatory Commission.

ACTION: Preliminary proposed rule language; notice of availability and public meeting; correction.

SUMMARY: The U.S. Nuclear Regulatory Commission (NRC) is correcting a notice that was published in the Federal Register on April 19, 2023, making available preliminary proposed rule language for a rulemaking on the reporting of nuclear medicine injection extravasations as medical events. This action is necessary to correct the time of the public meeting.

DATES: The correction takes effect on April 25, 2023.

ADDRESSES: Please refer to Docket ID NRC-2022-0218 when contacting the NRC about the availability of information for this action. You may obtain publicly available information related to this action by any of the following methods:

• Federal Rulemaking Website: Go to https://www.regulations.gov and search for Docket ID NRC-2022-0218. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. eastern time, Monday through Friday, except Federal holidays.

FOR FURTHER INFORMATION CONTACT: Irene Wu, telephone: 301-415-1951, email: Irene.Wu@nrc.gov; and Daniel DiMarco, telephone: 301-415-3303, email: Daniel.Dimarco@nrc.gov. Both are staff of the U.S. Nuclear Regulatory Commission, Washington, DC 20555-0001.

SUPPLEMENTARY INFORMATION: The NRC is announcing the following corrected language to proposed rule FR Doc. 2023-08238, published at 88 FR 24130 on April 19, 2023. On page 24130, in the first column, Dates section, the public meeting time is corrected to read “from 1:00 p.m. to 4:00 p.m. eastern time (ET)”. On page 24132, in the second column, section V. Public Meeting, the second sentence in the first paragraph is corrected to read “The public meeting will be held on May 24, 2023, from 1:00 p.m. to 4:00 p.m. ET on the Microsoft Teams online platform.”.

The NRC may post materials related to this document, including public comments, on the Federal rulemaking website at https://www.regulations.gov under Docket ID NRC-2022-0218. In addition, the Federal rulemaking website allows members of the public to receive alerts when changes or additions occur in a docket folder. To subscribe: (1) navigate to the docket folder (NRC-2011-0014; NRC-2011-0015; NRC-2011-0017; NRC-2011-0018); (2) click the “Subscribe” link; and (3) enter an email address and click on the “Subscribe” link.

Dated: April 19, 2023.
For the Nuclear Regulatory Commission.
Cindy K. Bladey,
Chief, Regulatory Analysis and Rulemaking Support Branch, Division of Rulemaking, Environmental, and Financial Support Office of Nuclear Material Safety and Safeguards.

[FR Doc. 2023-08685 Filed 4-24-23; 8:45 am]

BILLING CODE 7590-01-P